DEPARTMENT OF THE INTERIOR

Bureau of Land Management

[AK-962-1410-HY-P; F-14844-A, AHA-1]

Alaska Native Claims Selection

AGENCY: Bureau of Land Management, DOI.

ACTION: Notice of modified decision approving lands for conveyance.

SUMMARY: As required by 43 CFR 2650.7(d), notice is hereby given that the decision to issue conveyance to Ahtna, Incorporated (Successor in Interest to Cantwell Yedatene Na Corporation), notice of which was published in the Federal Register, 45 FR 64723 to 64728, on September 30, 1980, and corrected, 45 FR 70984, on October 27, 1980, is modified to make the conveyance subject to a right-of-way grant. Notice of this decision will also be published four times in the Fairbanks Daily News-Miner.

DATES: The time limits for filing an appeal are:

1. Any party claiming a property interest which is adversely affected by the decision shall have until May 29, 2003 to file an appeal.

2. Parties receiving service of the decision by certified mail shall have 30 days from the date of receipt to file an appeal.

Parties who do not file an appeal in accordance with the requirements of 43 CFR part 4, Subpart E, shall be deemed to have waived their rights.

ADDRESSES: A copy of the decision may be obtained from: Bureau of Land Management, Alaska State Office, 222 West Seventh Avenue, #13, Anchorage, Alaska 99513-7599.

FOR FURTHER INFORMATION CONTACT: Sherri Belenski, by phone at (907) 271-3333, or by e-mail at Sherri-Belenski@ak.blm.gov.

Sherri D. Belenski,
Land Law Examiner, Branch of ANCSA Adjudication.

[FR Doc. 03-10494 Filed 4-28-03; 8:45 am]

BILLING CODE 4310-$$-P